DEPARTMENT OF HOUSING AND URBAN DEVELOPMENT

[Docket No. FR-5045-N-04]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. John Kelly, Acting Deputy Assistant Commissioner, General Services Administration, Office of Property Disposal, 18th and F Streets, NW., Washington, DC 20405; (202) 501-0084; Navy: Mr. Warren Meekins, Department of the Navy, Real Estate Services, Naval Facilities Engineering Command, Washington Navy Yard, 1322 Patterson Ave., SE., Suite 1000, Washington, DC 20374-5065; (202) 685-9305; (These are not toll-free numbers).

Dated: January 19, 2006.
Mark R. Johnston,
Acting Deputy Assistant Secretary for Special Needs.

Title V, Federal Surplus Property Program, Federal Register Report for 1/27/2006

Suitable/Available Properties

Buildings (by State)

Washington

Vancouver Chapel

1601 E. 4th Plain Blvd.

Vancouver Co: Clark WA 98661-

Landholding Agency: GSA

Status: Excess

Comment: 2906 sq. ft., asbestos siding, off-site use only

GSA Number: 9-V-WA-1230

Suitable/Unavailable Properties

Buildings (by State)

Texas

Federal Center

Bldgs. 1-4, 40

501 West Felix Street

Fort Worth Co: Tarrant TX 76115-

Landholding Agency: GSA

Property Number: 54200610002

Status: Excess

Comment: Requires substantial repairs, easements, restrictive, covenants required

GSA Number: 7-G-TX-07672

Unsuitable Properties

Buildings (by State)

California

Naval Security Group

Skaggs Island

Sonoma Co: CA

Landholding Agency: GSA

Property Number: 54200610005

Status: Excess

Reason: Isolated area

GSA Number: 9-N-CA-1488

Bldg. 325

Naval Base

Port Hueneme Co: Ventura CA 93043-

Landholding Agency: Navy

Property Number: 77200610001

Status: Unutilized

Reasons: Within airport runway clear zone; Secured Area; Extensive deterioration

Hawaii

Bldg. 346

Naval Station

Pearl Harbor Co: HI 96860-

Landholding Agency: Navy

Property Number: 77200610002

Status: Excess

Reason: Extensive deterioration

Bldgs. 86, 589

Pearl City Peninsula

Pearl Harbor Co: Honolulu HI 96860-

Landholding Agency: Navy

Property Number: 77200610003

Status: Excess

Reason: Secured Area

5 Bldgs.

Pearl City Peninsula

590, 595, 596, 597, 598

Pearl Harbor Co: Honolulu HI 96860-

Landholding Agency: Navy

Property Number: 77200610004

Status: Excess

Reason: Secured Area

Bldg. 5798

Pearl City Peninsula

Pearl Harbor Co: Honolulu HI 96860-

Landholding Agency: Navy

Property Number: 77200610005

Status: Excess

Reason: Secured Area

Bldg. 776

Pearl City Peninsula

Pearl Harbor Co: Honolulu HI 96860-

Landholding Agency: Navy

Property Number: 77200610006

Status: Excess

Reason: Secured Area

Virginia

Bldg. U63

Naval Amphibious Base

Little Creek Co: Norfolk VA 23521-

Landholding Agency: Navy

Property Number: 77200610007

Status: Excess

Reason: Extensive deterioration

Bldg. 3660

Naval Amphibious Base

Little Creek Co: Norfolk VA 23521-

Landholding Agency: Navy

Property Number: 77200610008

Status: Excess

Reason: Extensive deterioration

Bldg. 3830

Naval Amphibious Base

Little Creek Co: Norfolk VA 23521-

Landholding Agency: Navy

Property Number: 77200610009

Status: Excess

Reason: Extensive deterioration

Land (by State)

Ohio

7100 Block

Olde Eight Road

Boston Heights Co: OH 44235-

Landholding Agency: GSA

Property Number: 54200610001

Status: Excess

Reason: Within 2000 ft. of flammable or explosive material

GSA Number: 1-D-Oh-828

Wisconsin

Parcel No 17-10267-50

600 Fisherman Road

LaCrosse Co: WI 54603-

Landholding Agency: GSA

Property Number: 54200610004

Status: Excess

Reason: Within 2000 ft. of flammable or explosive material

GSA Number: 1-I-WI-605

[FR Doc. 06-668 Filed 1-26-06; 8:45 am]

BILLING CODE 4210-29-M